DEPARTMENT OF STATE

[Public Notice: 9096]

30-Day Notice of Proposed Information Collection: Repatriation/Emergency Medical and Dietary Assistance Loan Application

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to May 14, 2015.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Derek Rivers, Bureau of Consular Affairs, Overseas Citizens Services (CA/OCS/PMO), U.S. Department of State, SA-17, 10th Floor, Washington, DC 20036 or at RiversDA@state.gov.

SUPPLEMENTARY INFORMATION:

• Title of Information Collection: Repatriation/Emergency Medical and Dietary Assistance Loan Application.

• OMB Control Number: 1405-0150.

• Type of Request: Extension of a currently approved collection.

• Originating Office: Bureau of Consular Affairs, Overseas Citizens Services (CA/OCS).

• Form Number: DS-3072.

• Respondents: U.S. Citizens applying for emergency loan assistance.

• Estimated Number of Respondents: 1,446.

• Estimated Number of Responses: 1,446.

• Average Time per Response: 20 minutes.

• Total Estimated Burden Time: 482 hours.

• Frequency: On Occasion.

• Obligation to Respond: Required to Obtain Benefits.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The DS 3072 is an application for an emergency loan for a destitute U.S. citizen and/or eligible family member to return to the United States, an application for a destitute U.S. citizen and/or eligible family member abroad to receive emergency medical and dietary assistance, and an application for a U.S. citizen and/or and/or eligible family member to receive a loan to assist in his or her repatriation to the United States, and/or to provide them with the funds needed to address their emergency medical and/or dietary needs.

Methodology: The Bureau of Consular Affairs will post this form on Department of State Web sites to give respondents the opportunity to complete the form online, or print the form and fill it out manually and submit the form in person or by fax or mail.

Dated: March 30, 2015.
Michelle Bernier-Toth,
Managing Director, Bureau of Consular Affairs, Overseas Citizen Services, Department of State.

[FR Doc. 2015-08597 Filed 4-13-15; 8:45 am]

BILLING CODE 4710-06-P